DEPARTMENT OF LABOR

Employment and Training Administration

[NAFTA-5882]

Marathon Electric, Regal-Beloit Corporation, West Plains, MO; Notice of Termination of Investigation

Pursuant to Title V of the North American Free Trade Agreement Implementation Act (Pub. L. 103-182) concerning transitional adjustment assistance, hereinafter called NAFTA-TAA and in accordance with Section 250(a), Subchapter D, Chapter 2, Title II, of the Trade Act of 1974, as amended (19 U.S.C. 2331), the Department of Labor herein presents the results of an investigation was initiated on February 15, 2002 in response to a worker petition, which was filed on behalf of workers at Marathon Electric, subsidiary of Regal-Beloit Corporation, West Plains, Missouri.

The petitioners have requested that the petition be withdrawn. Consequently, further investigation in this case would serve no purpose, and the investigation has been terminated.

Signed in Washington, DC this 9th day of April 2002.
Linda G. Poole,
Certifying Officer, Division of Trade Adjustment Assistance.

[FR Doc. 02-9750 Filed 4-19-02; 8:45 am]

BILLING CODE 4510-30-M